SURFACE TRANSPORTATION BOARD

[Docket No. AB 254 (Sub-No. 11X)]

Providence and Worcester Railroad Company—Discontinuance of Service Exemption—in Middlesex County, Conn.

On March 19, 2019, Providence and Worcester Railroad Company (P&W) filed with the Board a petition under 49 U.S.C. 10502 for exemption from the prior approval requirements of 49 U.S.C. 10903 to discontinue common carrier rail service over an approximately 0.74-mile rail line that extends between milepost 0.22 +/- and the end of the line segment at milepost 0.96 in Portland, Middlesex County, Conn. (the Line). The Line traverses U.S. Postal Service Zip Code 06480.

According to P&W, the Line is the stub end of a line of railroad known as the Portland Industrial Track that is owned by the Connecticut Department of Transportation (CDOT) and is subject to a lease originally entered between CDOT and P&W's predecessor, the Connecticut Central Railroad Company. See Conn. Cent. R.R.—Exemption Operation—Certain Lines of the State of Conn., FD 31045 (ICC served June 3, 1987). P&W explains that, since 2009, there has been one active rail customer on the Line, RED Technologies, LLC (REDTECH). P&W states that it seeks an exemption to discontinue service over the Line in order to facilitate the expansion of REDTECH's business. According to P&W, REDTECH shipped/received 402 carloads of freight in 2018, and REDTECH anticipates that its traffic will increase if it can obtain additional track for its plant switching operations and would like to use the Line for that purpose.¹ Because there are no other customers on the Line, P&W states that it is willing to sublease the Line to REDTECH if P&W is permitted to discontinue its common carrier service over the Line. P&W further explains that it would continue to provide common carrier service over the remainder of the Portland Industrial Track, including common carrier service to REDTECH.²

¹ The petition indicates that REDTECH also would build a side track on its property alongside the Line.

² Letters from REDTECH and CDOT, the Line's owner, supporting the proposed discontinuance are attached as exhibits to the petition.

P&W states that, based on information in P&W's possession, the Line does not contain any federally granted rights-of-way. P&W states that any documentation in its possession will be made available to those requesting it.

As a condition to this exemption, any employee adversely affected by the discontinuance of service shall be protected under Oregon Short Line Railroad—Abandonment Portion Goshen Branch Between Firth & Ammon, in Bingham & Bonneville Counties, Idaho, 360 I.C.C. 91 (1979).

Because this is a discontinuance proceeding and not an abandonment proceeding, trail use/rail banking and public use conditions are not appropriate. Because there will be environmental review during any subsequent abandonment proceeding, this discontinuance does not require an environmental review. See 49 CFR 1105.8(b).

By issuance of this notice, the Board is instituting an exemption proceeding pursuant to 49 U.S.C. 10502(b). A final decision will be issued by July 5, 2019.

Any offer of financial assistance (OFA) under 49 CFR 1152.27(b)(2) to subsidize continued rail service will be due no later than July 15, 2019, or 10 days after service of a decision granting the petition for exemption, whichever occurs sooner.³ Each OFA must be accompanied by a $1,800 filing fee. See 49 CFR 1002.2(f)(25).

³ The Board modified its OFA procedures effective July 29, 2017. Among other things, the OFA process now requires potential offerors, in their formal expression of intent, to make a preliminary financial responsibility showing based on a calculation using information contained in the carrier's filing and publicly available information. See Offers of Financial Assistance, EP 729 (STB served June 29, 2017); 82 FR 30997 (July 5, 2017).

All filings in response to this notice must refer to Docket No. AB 254 (Sub-No. 11X) and must be sent to: (1) Surface Transportation Board, 395 E Street SW, Washington, DC 20423-0001; and (2) P&W's representative, Eric M. Hocky, Clark Hill PLC, 2005 Market Street, Suite 1000, Philadelphia, PA 19103. Replies to the petition are due on or before April 29, 2019.

Persons seeking further information concerning discontinuance procedures may contact the Board's Office of Public Assistance, Governmental Affairs, and Compliance at (202) 245-0238 or refer to the full abandonment or discontinuance regulations at 49 CFR part 1152. Questions concerning environmental issues may be directed to the Board's Office of Environmental Analysis at (202) 245-0305. Assistance for the hearing impaired is available through the Federal Relay Service at 1-800-877-8339.

Board decisions and notices are available at www.stb.gov.

Decided: April 2, 2019.
By the Board, Allison C. Davis, Acting Director, Office of Proceedings.
Jeffrey Herzig,
Clearance Clerk.

[FR Doc. 2019-06825 Filed 4-5-19; 8:45 am]

BILLING CODE 4915-01-P